DEPARTMENT OF COMMERCE

National Oceanic and Atmospheric Administration

[I.D. 051303C]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene a public meeting.

DATES: The meeting will be held on June 5-6, 2003.

ADDRESSES: These meetings will be held at the New Orleans Airport Plaza Hotel and Conference Center, 2150 Veterans Boulevard, Kenner, LA; telephone: 504-467-3111.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

June 5

8:30 a.m.—Convene.

8:40 a.m.-12 noon—Receive public testimony on the draft environmental impact statement (DEIS) for the Essential Fish Habitat (EFH) Generic Amendment. The amendment contains alternatives for specifying EFH, habitat areas of particular concern (HAPCs), and impacts of fishing on EFH.

1:30 p.m.-4:30 p.m.—Receive comments on the DEIS for the EFH Generic Amendment.

4:00 p.m.-5:30 p.m.—Section by section review and revision of DEIS.

June 6

8:30 a.m.-12 noon—Continue section by section review and revision of DEIS.

1:30 a.m.-2:30 p.m.—Continue section by section review and revision of DEIS.

2:30 p.m.-3 p.m.—Other Business.

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council's intent to take final action to address the emergency. A copy of the agenda can be obtained by calling (813) 228-2815.

Special Accommodations

These meetings are physically accessible to people with disabilities. Requests for sign language interpretation or other auxiliary aids should be directed to Anne Alford at the Council (see ADDRESSES) by May 30, 2003.

Dated: May 13, 2003.
Richard W. Surdi,
Acting Director, Office of Sustainable Fisheries, National Marine Fisheries Service.

[FR Doc. 03-12469 Filed 5-16-03; 8:45 am]

BILLING CODE 3510-22-S